Proclamation 8517 of May 7, 2010

Mother’s Day, 2010

By the President of the United States of America

A Proclamation

Generations of mothers have labored tirelessly and selflessly to support and guide their children and families. Their loving, devoted efforts have broadened horizons for their children and opened doors of opportunity for our Nation’s daughters and granddaughters. On Mother’s Day, we pay tribute to these women who have given so much of themselves to lift up our children and shape America’s character.

Julia Ward Howe, who wrote the words for the song The Battle Hymn of the Republic, led early efforts to establish a day honoring the influence of mothers on our lives and communities. In the ensuing decades, many Americans rallied to support this cause, including Anna Jarvis. After the loss of her own mother, Anna helped spur the nationwide institution of Mother’s Day we celebrate each year.

From our first moments in this world and throughout our lives, our mothers protect us from harm, nurture our spirits, and encourage us to reach for our highest aspirations. Through their unwavering commitment, they have driven and inspired countless acts of leadership, compassion, and service across our country. Many mothers have struggled to raise children while pursuing their careers, or as single parents working to provide for their families. They have carried the torch of trailblazers past, leading by powerful example and overcoming obstacles so their sons and daughters could reach their fullest potential.

Whether adoptive, biological, or foster, mothers share an unbreakable bond with their children, and Americans of all ages and backgrounds owe them an immeasurable debt. Nurturing families come in many forms, and children may be raised by two parents, a single mother, two mothers, a step-mom, a grandmother, or a guardian. Mother’s Day gives us an opportunity to celebrate these extraordinary caretakers, mentors, and providers who have made us who we are. As we honor today’s mothers, we also reflect upon the memory of those who have passed, and we renew our commitment to living the values they cultivated in us.

The Congress, by a joint resolution approved May 8, 1914 (38 Stat. 770), has designated the second Sunday in May each year as “Mother’s Day” and requested the President to call for its appropriate observance.

NOW, THEREFORE, I, BARACK OBAMA, President of the United States of America, do hereby proclaim May 9, 2010, as Mother’s Day. Let us express our deepest love and thanks to our mothers and remember those who, though no longer with us, inspire us still.

IN WITNESS WHEREOF, I have hereunto set my hand this seventh day of May, in the year of our Lord two thousand ten, and of the Independence of the United States of America the two hundred and thirty-fourth.

[FR Doc. 2010-11555

Filed 5-11-10; 11:15 am]

Billing code 3195-W0-P